DEPARTMENT OF TRANSPORTATION

Federal Aviation Administration

Notice of Intent To Prepare an Environmental Impact Statement for Atlantic City International Airport, NJ

AGENCY: Federal Aviation Administration (FAA), DOT.

ACTION: Notice of intent to prepare and consider an environmental impact statement and to conduct agency and public scoping meetings.

SUMMARY: The Federal Aviation Administration (FAA) is issuing this notice to advise the public that an Environmental Impact Statement (EIS) will be prepared and considered for proposed improvements at Atlantic City International Airport, New Jersey. In addition, to ensure that all major project-related issues are identified, agency scoping and public scoping meetings will be held. The New Jersey Pinelands Commission will be a cooperating agency on the EIS.

Scoping meetings will be held to determine the scope of the EIS and to identify the major project-related issues to be addressed and emphasized in the EIS. The FAA hereby invites the participation of Federal, State and local agencies, any affected Indian tribe, the proponent of the action, and any other interested parties.

Two scoping meetings are planned: The first is an agency scoping meeting intended for organizations having jurisdiction by law or specific expertise with respect to any environmental impacts associated with the action; the second is a public meeting intended for other interested parties (including those who may not be in accord with the action on environmental grounds). However, both are open to the public.

The FAA further invites agencies, organizations, and the general public to provide written comments relative to the action and the issues to be addressed in the EIS. Scoping comments should clearly describe specific issues or topics that the commentator believes the EIS should address.

DATES: The scoping meetings are scheduled for Wednesday November 1st, 2000. The agency scoping meeting is scheduled for 2 p.m. and the public scoping meeting is scheduled for 6:30 p.m. The meetings will be held at the Egg Harbor Township Municipal Building Court Room, 3515 Bargantown Road, Egg Harbor Township, New Jersey 08234. Written comments will be accepted through November 10, 2000.

ADDRESSES: Written comments and requests to be included on a mailing list of persons interested in the EIS should be send to Daisy Mather, Federal Aviation Administration Eastern Region, Airports Division, AEA-610, 1 Aviation Plaza, Jamaica, New York 11434.

FOR FURTHER INFORMATION CONTACT: Daisy Mather, Federal Aviation Administration Eastern Region, Airports Division, AEA-610, 1 Aviation Plaza, Jamaica, New York 11434; telephone (718) 553-2511; e-mail: daisy.mather@faa.gov.

SUPPLEMENTARY INFORMATION: The South Jersey Transportation Authority (SJTA) has completed a master plan update and an environmental assessment (EA) for the proposed future development projects at Atlantic City International Airport. Because the potential for significant environmental impacts was determined during the EA process, the EA was not approved and the FAA determined that preparation of an EIS was necessary.

The proposed airport development actions involve numerous airside and landside improvements to be developed over several years, such that some projects will be implemented upon completion of the EIS, while others will be implemented as demand necessitates. Major airside projects identified for analysis include, but are not limited to, the following: Runway and taxiway extension, taxiway relocation, high-speed taxiway exits, runway and taxiway pavement rehabilitation, airfield lighting electrical improvements, a deicing facility, and a Category II Instrument Landing System (CAT II ILS).

Major landside projects identified for analysis include, but are not limited to, the following: Passenger terminal and terminal apron expansion, a multi-level parking garage, surface parking improvements, a new access roadway, a rent-a-car service center, a hotel/conference facility, general aviation hangars with apron, a snow-removal equipment storage building, and an aircraft cargo/maintenance complex.

The airport is located in the Pinelands National Reserve, an internationally important ecological region that is 1.1 million acres in size and occupies 22 percent of New Jersey's land area. The environmental issues of concern for evaluation in the EIS are anticipated to be very similar to those evaluated in the EA process, including water quality, threatened and endangered species, biotic communities, wetlands, air quality, secondary impacts and cumulative impacts. Other issues that will be addressed in the EIS include potential impacts to flood plains, noise, cultural resources, utilities, hazardous materials, and environmental justice.

With regard to project alternatives, the EIS will include an analysis of a variety of alternatives considered during project planning. In addition to the proposed action and the no action alternatives, the analysis will include individual project site locations, mitigation alternatives, and other alternatives that may arise from the scoping process.

Issued on September 22, 2000, in Jamaica, New York.
Robert B. Mendez,
Manager, Airports Division, Eastern Region.

[FR Doc. 00-24935 Filed 9-27-00; 8:45 am]

BILLING CODE 4910-13-M